EQUAL EMPLOYMENT OPPORTUNITY COMMISSION

Privacy Act of 1974; Publication of Notice of Proposed New Systems of Records and Amendment of Systems To Add New System Managers

AGENCY: Equal Employment Opportunity Commission.

ACTION: Notice; Publication of Notice of Proposed New Systems of Records and Amendment of System of Records.

SUMMARY: This notice proposes two new systems of records, and amends an existing system of records. The changes implement EEOC's personal identification verification (PIV) card system, and establish a system for EEOC emergency management files.

DATES: The changes to the existing systems of records and the proposed new systems of records will become effective, without further notice, on May 30, 2008 unless comments dictate otherwise.

ADDRESSES: Written comments should be submitted to Stephen Llewellyn, Executive Officer, Equal Employment Opportunity Commission, 1801 L Street, NW., Washington, DC 20507. As a convenience to commentators, the Executive Secretariat will accept comments transmitted by facsimile (“FAX”) machine. The telephone number of the FAX receiver is (202) 663-4114. (This is not a toll-free number.) Only comments of six or fewer pages will be accepted via FAX transmittal. This limitation is necessary to assure access to the equipment. Receipt of FAX transmittals will not be acknowledged, except that the sender may request confirmation of receipt by calling the Executive Secretariat staff at (202) 663-4070 (voice) or (202) 663-4074 (TTD). (These are not toll-free telephone numbers.) You may also submit comments and attachments electronically at http://www.regulations.gov, which is the Federal eRulemaking Portal. Copies of comments submitted by the public will be available to review at the Commission's library, Room 6502, 1801 L Street, NW., Washington, DC 20507 between the hours of 9:30 a.m. and 5 p.m. or can be reviewed at http://www.regulations.gov.

FOR FURTHER INFORMATION CONTACT: Thomas J. Schlageter, Assistant Legal Counsel, or Kathleen Oram, Senior Attorney, at (202) 663-4640 (voice) or (202) 663-7026 (TTY). Copies of this notice are also available in the following alternate formats: large print, braille, audiotape and electronic file on computer disk. Requests for this notice in an alternative format should be made to EEOC's Publication Center at 1-800-669-3362 (voice) or 1-800-800-3302 (TTY).

SUPPLEMENTARY INFORMATION: The Equal Employment Opportunity Commission published all of its systems of records subject to the Privacy Act in a Federal Register notice dated July 30, 2002 (67 FR 49338). The Commission amended three of those systems and added two new systems of records in a Federal Register notice published on April 26, 2006 (71 FR 24704). The Commission now proposes to amend one existing system of records and add two new systems of records. Specifically, it proposes to amend its system of records covering its employee identification card records (EEOC-13, Employee Identification Cards), and to add a new system of records covering background investigation records and decisions regarding suitability, eligibility and fitness for service of EEOC employees and applicants (EEOC-22, EEOC Personnel Security Files). The changes to EEOC-13 and proposed new EEOC-22 implement the requirements of Homeland Security Presidential Directive 12 (HSPD 12), including the personal identification verification (PIV) cards.

The Commission also proposes a new system of records to cover emergency management files (EEOC-21, Emergency Management Records). This system will allow EEOC to maintain EEOC employee and contractor emergency notification rosters and files, emergency contact information, and continuity of operations program files. This information would be used by EEOC officials to contact employees, contractors and others in case of an emergency or other event that may require the assistance of those employees or contractors.

The proposed routine uses for the amended systems of records, EEOC-13, and the two proposed new systems of records, EEOC-21 and EEOC-22, meet the compatibility requirement of the Privacy Act, 5 U.S.C. 552a(a)(7). The proposed new routine uses will permit disclosures of records that are compatible with the purposes for which the information is being collected in each system. We anticipate that any disclosure pursuant to these routine uses will not result in any unwarranted adverse effects on personal privacy.

For the Commission.
Naomi C. Earp,
Chair.

Accordingly, it is proposed that:

1. EEOC-13, Employee Identification Cards, most recently published at 67 FR 49338, 49339 (July 30, 2002), is amended as set forth below:

EEOC-13

SYSTEM NAME:

Employee Identification Cards.

SYSTEM LOCATION:

Central Services Division, Office of the Chief Financial Officer, EEOC, 1801 L Street, NW., Washington, DC 20507, and each of the field offices in Appendix A.

CATEGORIES OF INDIVIDUALS COVERED BY THE SYSTEM:

Current EEOC employees, and other individuals who require regular, ongoing access to EEOC facilities or information technology systems, including, but not limited to, federal employees, contractors, interns, volunteers, and individuals formerly in any of these positions. This system does not apply to occasional visitors or short-term guests to whom EEOC will issue temporary identification cards.

CATEGORIES OF RECORDS IN THE SYSTEM:

Records maintained on individuals issued identification cards, including Personal Identification Verification (PIV) cards, by EEOC include the following information: full name; signature; social security number; date of birth; photograph; fingerprints; hair color; eye color; height; weight; office of assignment; telephone number; copy of background investigation form; card issue and expiration dates; personal identification number; results of background investigation; PIV request form; PIV registrar approval signature; PIV card serial number; and a list of all persons who possess current identification cards. In addition, for office locations permitting access by proximity cards, numbered proximity cards and a list of all persons with their assigned proximity card numbers, all doors controlled by the proximity cards and all persons permitted access to each door.

AUTHORITY FOR MAINTENANCE OF SYSTEM:

44 U.S.C. 3101; 41 CFR 101-20.3; 5 U.S.C. 301; Federal Information Security Act (Pub. L. 104-106, 5113); Electronic Government Act (Pub. L. 104-347, 203); Homeland Security Presidential Directive (HSPD) 12, Policy for Common Identification Standard for Federal Employees and Contractors, August 27, 2004.

PURPOSE:

These records are maintained for the purpose of ensuring that EEOC offices and information systems are secure and that only authorized individuals have access to those offices and systems.

ROUTINE USES OF RECORDS MAINTAINED IN THE SYSTEM, INCLUDING CATEGORIES OF USERS AND THE PURPOSES OF SUCH USES:

These records and information from these records may be used:

a. To provide information to a congressional office from the record of an individual in response to an inquiry from that congressional office made at the request of that individual.

b. To disclose to other government agencies and to the public whether an individual is a current employee of the EEOC.

c. To disclose information to another federal agency, to a court, or to a party in litigation before a court or in an administrative proceeding being conducted by a federal agency when the government is a party to the judicial or administrative proceeding.

d. To disclose pertinent information to the appropriate federal, state, or local agency responsible for investigating, prosecuting, enforcing or implementing a statute, rule, regulation or order, where EEOC becomes aware of an indication of a violation or potential violation of civil or criminal law or regulation.

e. To disclose information to agency contractors who have been engaged to assist the agency in the performance of a contract or other activity related to this system of records and who need to have access to the records in order to perform their activity.

f. To notify another federal agency when, or verify whether, a PIV card is no longer valid.

POLICIES AND PRACTICES FOR STORING, RETRIEVING, ACCESSING, RETAINING AND DISPOSING OF RECORDS IN THE SYSTEM:

STORAGE:

These records are maintained in paper files and in electronic media.

RETRIEVABILITY:

Records are retrieved by name, social security number, other ID number, PIV card serial number, photograph, or fingerprint.

SAFEGUARDS:

Records are maintained and stored in file cabinets in a secured area to which only authorized personnel have access. Access to computerized records is limited, through use of access codes and entry logs, to those whose official duties require access.

RETENTION AND DISPOSAL:

Records are destroyed not later than five years after the separation or transfer of the employee. In accordance with HSPD-12, PIV cards are deactivated within 18 hours of cardholder separation, loss of card, or expiration. The information on PIV cards is maintained in accordance with General Records Schedule 11, Item 4. PIV cards are destroyed by cross-cut shredding no later than 90 days after deactivation.

SYSTEM MANAGER AND ADDRESS:

Director, Central Services Division, Office of Chief Financial Officer, EEOC, 1801 L Street, NW., Washington, DC 20507, and the Directors of the field offices listed in Appendix A.

NOTIFICATION PROCEDURES:

Inquiries concerning this system of records should be addressed to the system manager. It is necessary to provide the following information: (1) Name; (2) date of birth; (3) social security number; and (4) mailing address to which response is to be sent.

RECORD ACCESS PROCEDURES:

Same as above.

CONTESTING RECORD PROCEDURES:

Same as above.

RECORD SOURCE CATEGORIES:

Information contained in this system is obtained from the employee, or contractor; other federal agencies; contract employer; or former employer.

2. EEOC-21, Emergency Management Records, is added as set forth below:

EEOC-21

SYSTEM NAME:

Emergency Management Records.

SYSTEM LOCATION:

Headquarters, District, Field, Area and Local Offices may maintain emergency contact files. The Office of Human Resources maintains emergency management and continuity of operations (COOP) files.

CATEGORIES OF INDIVIDUALS COVERED BY THE SYSTEM:

EEOC employees, contractors and other governmental and non-governmental persons essential to carrying out emergency activities.

CATEGORIES OF RECORDS IN THE SYSTEM:

The records, composed of emergency notification rosters and files, emergency contact information, and COOP files, may contain the following personal information: name; office, cellular and home telephone numbers; home address; email address; primary contact name, relationship, address, cellular, work and home telephone numbers; alternate contact's name, relationship, address, cellular, work and home telephone numbers. Each office may collect a different set of information. System records may include special needs information such as medical, mobility, and transportation requirements for individuals. Additional information may include official titles and emergency assignments.

AUTHORITY FOR MAINTENANCE OF THE SYSTEM:

5 U.S.C. 301; 44 U.S.C. 3101; Executive Order 12565, Assignment of Emergency Preparedness Responsibilities, (Nov. 18, 1989); Presidential Decision Directive 67, Ensuring Constitutional Government and Continuity of Government Operations.

PURPOSE:

To maintain current information on EEOC employees and other persons covered by this system to allow persons with emergency management responsibilities to notify or contact them about conditions that require their urgent assistance or attention during an emergency.

ROUTINE USES OF RECORDS MAINTAINED IN THE SYSTEM, INCLUDING CATEGORIES OF USERS AND THE PURPOSES OF SUCH USES:

These records and information in these records may be used:

a. To disclose pertinent information to the appropriate federal, state, or local agency responsible for investigating, prosecuting, enforcing, or implementing a statute, rule, regulation, or order, where EEOC becomes aware of an indication of a violation or potential violation of civil or criminal law or regulation.

b. To disclose information to a congressional office from the record of an individual in response to an inquiry from the congressional office made at the request of the individual.

c. To disclose information to an expert, consultant or contractor in the performance of a federal government duty involving EEOC emergency management.

d. To disclose information about an individual during an emergency in order to locate or contact that individual.

POLICIES AND PRACTICES FOR STORING, RETRIEVING, ACCESSING, RETAINING, AND DISPOSING OF RECORDS IN THE SYSTEM:

STORAGE:

These records are maintained in paper files and in electronic media.

RETRIEVABILITY:

Records are retrieved by name, organization, or location.

SAFEGUARDS:

Records are maintained and stored in file cabinets in a secured area to which only authorized personnel have access. Access to electronic records is limited through use of passwords, access codes and entry logs to those whose official duties require access.

RETENTION AND DISPOSAL:

Records are destroyed one year after termination of employment relationship or contract termination.

SYSTEM MANAGER(S) AND ADDRESS:

Headquarters, District, Field, Area and Local Office Directors. Addresses listed in Appendix A.

NOTIFICATION PROCEDURES:

Inquiries concerning this system of records should be made to the system manager. It is necessary to provide the name of the individual and the mailing address to which the response should be sent.

RECORD ACCESS PROCEDURES:

Same as above.

CONTESTING RECORD PROCEDURES:

Same as above.

RECORD SOURCE CATEGORIES:

Information in this system is obtained from the individuals themselves, their supervisors or office.

3. EEOC-22, EEOC Personnel Security Files, is added as set forth below:

EEOC-22

SYSTEM NAME:

EEOC Personnel Security Files.

SYSTEM LOCATION:

Office of Human Resources, 1801 L Street, NW., Washington, DC 20507.

CATEGORIES OF INDIVIDUALS COVERED BY THE SYSTEM:

EEOC employees, applicants, former employees, and contractors.

CATEGORIES OF RECORDS IN THE SYSTEM:

Name, former names, birth date, birth place, social security number, home address, telephone numbers, employment history, residential history, education and degrees earned, names of associates and references and their contact information, citizenship, names of relatives, citizenship of relatives, names of relatives who work for the federal government, criminal history, drug use, financial information, fingerprints, summary report of investigation, results of suitability decisions, requests for appeal, witness statements, investigator's notes, tax return information, credit reports, security violations (including circumstances of violation and agency action taken).

AUTHORITY FOR MAINTENANCE OF THE SYSTEM:

5 U.S.C. 3101; 5 CFR Parts 732, and 736; Executive Orders 10450, 10865, 12333, and 12356; and Homeland Security Presidential Directive 12 (HSPD 12), Policy for a Common Identification Standard for Federal Employees and Contractors, August 27, 2004.

PURPOSE:

The records in this system are used to document and support decisions regarding the suitability, eligibility, and fitness for service of applicants for EEOC employment and contract positions, including interns, or volunteers to the extent their duties require access to federal facilities, information, systems, or applications. The records may be used to document security violations and supervisory actions taken.

ROUTINE USES OF RECORDS MAINTAINED IN THE SYSTEM, INCLUDING CATEGORIES OF USERS AND THE PURPOSES OF SUCH USES:

a. To provide information to a congressional office from the record of an individual in response to an inquiry from the congressional office made at the request of the individual.

b. Except as noted on Standard Forms 85, 85P, and 86, to disclose pertinent information to the appropriate federal, state, or local agency responsible for investigating, prosecuting, enforcing, or implementing a statute, rule, regulation, or order, where EEOC becomes aware of an indication of a violation or potential violation of civil or criminal law or regulation.

c. To disclose information to another federal agency, to a court, or to a party in litigation before a court or in an administrative proceeding being conducted by a federal agency when the government is a party to the judicial or administrative proceeding.

d. To disclose information to any source or potential source from which information is requested in the course of an investigation concerning the retention of an employee or other personnel action (other than hiring), to the extent necessary to identify the individual, inform the source of the nature and purpose of the investigation, and to identify the type of information requested.

e. To disclose information to employees of contractors who have been engaged by EEOC to perform an activity related to suitability, eligibility, and fitness for service of EEOC applicants and employees.

POLICIES AND PRACTICE FOR STORING, RETRIEVING, ACCESSING, RETAINING AND DISPOSING OF RECORDS IN THE SYSTEM:

STORAGE:

These records are maintained in paper files and in electronic media.

RETRIEVABILITY:

Background investigation files are retrieved by name, social security number, or fingerprint.

SAFEGUARDS:

Records are maintained and stored in file cabinets in a secured area to which only authorized personnel have access. Access to electronic records is limited through use of passwords, access codes and entry logs to those whose official duties require access.

RETENTION AND DISPOSAL:

These records are destroyed upon notification of death or not later than five years after separation or transfer of employee to another agency or department.

SYSTEM MANAGER AND ADDRESS:

Office of Human Resources, EEOC, 1801 L Street, NW., Washington, DC 20507.

NOTIFICATION PROCEDURE:

Inquiries concerning this system of records should be addressed to the system manager. It is necessary to provide the following information: (1) Name; (2) date of birth; (3) social security number; and (4) mailing address to which response is to be sent.

RECORDS ACCESS PROCEDURES:

Same as above.

CONTESTING RECORD PROCEDURES:

Same as above.

RECORD SOURCE CATEGORIES:

Information is obtained from a variety of sources, including the employee, contractor or applicant via use of the SF-85, SF-85P, or SF-86 and personal interviews; employers' and former employers' records; FBI criminal history records and other databases; financial institutions and credit reports; interviews of witnesses, such as neighbors, friends, co-workers, business associates, teachers, landlords, or family members; tax records; and other public records. Security violation information is obtained from a variety of sources, such as guard reports, security inspections, witnesses, supervisor's reports, audit reports.

SYSTEMS EXEMPTED FROM CERTAIN PROVISIONS OF THE PRIVACY ACT:

Upon publication of a final rule in the Federal Register, this system of records will be exempt in accordance with 5 U.S.C. 552a(k)(5) from subsection (c)(3) and (d)(1) of the Privacy Act, but only to the extent that the information identifies witnesses promised confidentiality as a condition of providing information during the course of the background investigation.

[FR Doc. E8-6619 Filed 3-28-08; 8:45 am]

BILLING CODE 6570-01-P